INTERNATIONAL TRADE COMMISSION

[Investigation No. TA-421-4]

Certain Ductile Iron Waterworks Fittings From China

AGENCY: United States International Trade Commission.

ACTION: Institution and scheduling of an investigation under section 421(b) of the Trade Act of 1974 (19 U.S.C. 2451(b)) (the Act).

SUMMARY: Following receipt of a petition, on September 5, 2003, on behalf of McWane, Inc.,¹ Birmingham, AL, the Commission instituted investigation No. TA-421-4, Certain Ductile Iron Waterworks Fittings from China, under section 421(b) of the Act to determine whether certain ductile iron waterworks fittings ² from China are being imported into the United States in such increased quantities or under such conditions as to cause or threaten to cause market disruption to the domestic producers of like or directly competitive products. The petition also alleges under section 421(i) of the Act that critical circumstances exist with respect to the subject products and requests that provisional relief be provided. Accordingly, the Commission will determine whether delay in taking action would cause damage to the relevant domestic industry which would be difficult to repair, and if that determination is affirmative, make a preliminary determination of whether imports of certain ductile iron waterworks fittings from China have caused or threaten to cause market disruption.

¹ McWane operates three subsidiaries that produce the subject products including: Clow Water Systems Co., Coshocton, OH; Tyler Pipe Co., Tyler, TX; and Union Foundry Co., Anniston, AL.

² The products subject to this investigation are cast pipe or tube fittings of ductile iron (containing 2.5 percent carbon and over 0.02 percent magnesium or magnesium and cerium, by weight) with mechanical, push-on (rubber compression) or flanged joints attached. Ductile iron waterworks fittings are used to join pipes, valves, and hydrants in straight lines or to change, divert, divide, or direct the flow of water or sewage in municipal utility and industrial piping systems. Included within this definition are fittings of all nominal diameters and of both full-bodied and compact designs.

The imported products are provided for in statistical reporting number 7307.19.3070 of the Harmonized Tariff Schedule of the United States (HTS). Although the HTS category is provided for convenience and Customs purposes, the written description of the merchandise under investigation is dispositive.

For further information concerning the conduct of this investigation, hearing procedures, and rules of general application, consult the Commission's rules of practice and procedure, part 201, subparts A through E (19 CFR part 201), and part 206, subparts A and E (19 CFR part 206).

EFFECTIVE DATE: September 5, 2003.

FOR FURTHER INFORMATION CONTACT: Fred Ruggles (202-205-3187 or fruggles@usitc.gov), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

SUPPLEMENTARY INFORMATION: Participation in the investigation and service list.—Persons wishing to participate in the investigation as parties must file an entry of appearance with the Secretary to the Commission, as provided in section 201.11 of the Commission's rules, not later than seven days after publication of this notice in the Federal Register. The Secretary will prepare a service list containing the names and addresses of all persons, or their representatives, who are parties to this investigation upon the expiration of the period for filing entries of appearance.

Limited disclosure of confidential business information (CBI) under an administrative protective order (APO) and CBI service list.—Pursuant to section 206.47 of the Commission's rules, the Secretary will make CBI gathered in this investigation available to authorized applicants under the APO issued in the investigation, provided that the application is made not later than seven days after the publication of this notice in the Federal Register. A separate service list will be maintained by the Secretary for those parties authorized to receive CBI under the APO.

Service of the petition.—The Secretary shall promptly notify a petitioner when, before the establishment of a service list under section 206.17(a)(4) of the Commission's rules, he or she approves an application under section 206.17(a)(2) pursuant to section 206.47. When practicable, this notification shall be made by facsimile transmission. The petitioner shall then serve a copy of the petition, including all confidential business information, on the approved lead authorized applicants in accordance with section 206.17(f) within two (2) calendar days of the time notification is made by the Secretary.

Upon establishment of the service list, the petitioner shall serve the lead authorized applicants enumerated on the list established by the Secretary pursuant to section 206.17(a)(4) that have not been served pursuant to the preceding paragraph within two (2) calendar days of the establishment of the Secretary's list.

Conference.—The Commission has scheduled a conference in connection with this investigation beginning at 9:30 a.m. on September 26, 2003, at the U.S. International Trade Commission Building. Subjects related to critical circumstances and provisional remedy proposals may be addressed at the conference. Parties wishing to participate in the conference should contact Fred Ruggles (202-205-3187; e-mail: fruggles@usitc.com) not later than September 23, 2003, to arrange for their appearance. Parties in support of the imposition of provisional import relief in this investigation and parties in opposition to the imposition of such relief will each be collectively allocated one hour within which to make an oral presentation at the conference. Oral testimony and written materials to be submitted at the conference are governed by sections 201.6(b)(2) and 201.13(f) of the Commission's rules.

Hearing.—The Commission has also scheduled a hearing in connection with this investigation beginning at 9:30 a.m. on November 6, 2003, at the U.S. International Trade Commission Building. Subjects related to both market disruption or threat thereof and remedy may be addressed at the hearing. Requests to appear at the hearing should be filed in writing with the Secretary to the Commission on or before October 28, 2003. All persons desiring to appear at the hearing and make oral presentations should attend a prehearing conference to be held at 9:30 a.m. on October 30, 2003, at the U.S. International Trade Commission Building. Oral testimony and written materials to be submitted at the hearing are governed by sections 201.6(b)(2) and 201.13(f) of the Commission's rules. Parties must submit any request to present a portion of their hearing testimony in camera no later than 7 days prior to the date of the hearing.

Written submissions.—Each party is encouraged to submit briefs to the Commission. The deadline for filing postconference briefs relating to critical circumstances market disruption and/or provisional remedy proposals is October 1, 2003. The deadline for filing prehearing briefs is October 28, 2003, and the deadline for posthearing briefs is November 12, 2003. In addition, any person who has not entered an appearance as a party to the investigation may submit a written statement of information pertinent to the consideration of critical circumstances market disruption and/or provisional import relief on or before October 1, 2003; and a written statement related to the consideration of market disruption or threat thereof and/or remedy on or before November 12, 2003. Parties may submit final comments on market disruption on or before November 26, 2003, and on remedy on or before December 8, 2003. Final comments shall contain no more than ten (10) double spaced and single sided pages of textual material, and shall only concern information disclosed after the filing of posthearing briefs. Comments containing new factual information shall be disregarded. All written submissions must conform with the provisions of section 201.8 of the Commission's rules; any submissions that contain CBI must also conform with the requirements of section 201.6 of the Commission's rules. The Commission's rules do not authorize filing of submissions with the Secretary by facsimile or electronic means, except to the extent permitted by section 201.8 of the Commission's rules, as amended, 67 FR 68036 (November 8, 2002).

In accordance with section 201.16(c) of the Commission's rules, each document filed by a party to the investigation must be served on all other parties to the investigation (as identified by the service list), and a certificate of service must be timely filed. The Secretary will not accept a document for filing without a certificate of service.

Remedy.—Parties are reminded that no separate conference or hearing on the issues of provisional remedy or final remedy will be held. Those parties wishing to present arguments on the issues of remedy may do so orally at the conference or hearing; or in their postconference briefs, prehearing briefs, posthearing briefs, or final comments on remedy.

Authority: This investigation is being conducted under the authority of section 421 of the Trade Act of 1974; this notice is published pursuant to section 206.3 of the Commission's rules.

Issued: September 9, 2003.
By order of the Commission.
Marilyn R. Abbott,
Secretary.

[FR Doc. 03-23420 Filed 9-12-03; 8:45 am]

BILLING CODE 7020-02-P